DEPARTMENT OF THE INTERIOR

National Park Service

Notice of Intent To Repatriate Cultural Items: Northwest Museum of Arts & Culture, Spokane, WA; Correction

AGENCY: National Park Service, Interior.

ACTION: Notice; correction.

Notice is here given in accordance with the Native American Graves Protection and Repatriation Act (NAGPRA), 25 U.S.C. 3003, of the intent to repatriate cultural items in the possession of the Northwest Museum of Arts & Culture, formerly Eastern Washington State Historical Society, in Spokane, WA, that meet the definition of unassociated funerary objects under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

This notice corrects the number of unassociated funerary objects reported in the Notice of Intent to Repatriate published in the Federal Register (75 FR 58424-58425, September 24, 2010). The museum staff recently discovered additional unassociated funerary objects related to the sites listed in the earlier notice.

In the Federal Register (75 FR 58424, September 24, 2010), paragraph five is corrected by substituting the following paragraph:

During the period July 1939 to September 1940, funerary objects were systematically removed from Sites 7A and 7B (45-FE-7), Ferry County, WA, by Collier, Hudson, and Ford due to the construction of the Grand Coulee Dam and its reservoir (Lake Roosevelt), and they were accessioned by the museum in 1940 (EWSHS Accession #1027). The 45 unassociated funerary objects are 7 beaver tooth dice, 1 bone awl pendant, 27 dentalia beads, 4 copper pendants, 1 copper bracelet, 1 projectile point, 1 bone awl, 2 scrapers, and 1 hammerstone.

In the Federal Register (75 FR 58424-58425, September 24, 2010), paragraph six is corrected by substituting the following paragraph:

During the period July 1939 to September 1940, funerary objects were systematically removed from Site 24 (45-FE-24), Ferry County, WA, by Collier, Hudson, and Ford due to the construction of the Grand Coulee Dam and its reservoir (Lake Roosevelt), and they were accessioned by the museum in 1940 (EWSHS Accession #1027). The 118 unassociated funerary objects are 7 wooden burial markers, 1 dentalia fragment, 27 glass beads, 9 perforated bear claws, 1 carved beaver tooth, 3 copper bells, 1 lot of burial fill, 22 dentalia beads, 2 buckskin or leather fragments, 3 antler digging sticks, 1 abalone shell pendant, 5 scrapers, 2 bone awls, 1 piece of matting, 1 flake, 2 dentalia necklace fragments, 1 small box of dentalia beads, 1 bone needle, 1 copper pendant, 18 rolled copper beads, 6 dentalium, 1 piece of cordage, 1 long jadeite celt, and 1 chipped flint fragment.

In the Federal Register (75 FR 58424-58425, September 24, 2010), paragraph seven is corrected by substituting the following paragraph:

During the period July 1939 to September 1940, funerary objects were systematically removed from Site 46 (45-Stevens-46), Stevens County, WA, by Collier, Hudson, and Ford due to the construction of the Grand Coulee Dam and its reservoir (Lake Roosevelt), and they were accessioned by the museum in 1940 (EWSHS Accession #1027). The 98 unassociated funerary objects are 6 pieces of worked bone, 1 jadeite chip, 1 jadeite celt, 46 bone implements, 3 stone pipes, 4 projectile points, 9 schist scrapers, 1 mussel shell, 1 antler wedge, 1 slate needle, 1 slate pendant, 1 pipe fragment, 1 bone awl, 1 slate object, 1 lot of turgite paint material, 1 arrow shaft smoother, 2 hematite pieces, 3 knives, 1 spear point, 1 antler, 1 antler horn implement, 2 chalcedony drill or graver, 1 stone chip, 1 stone artifact, 2 chalcedony scrapers, 1 chert scraper fragment, 1 worked chip (possibly mineralized wood), 1 basalt point or scraper, and 2 chalcedony drills.

In the Federal Register (75 FR 58424-58425, September 24, 2010), paragraph eight is corrected by substituting the following paragraph:

During the period July 1939 to September 1940, funerary objects were systematically removed from Site 47 (45-ST-47), Stevens County, WA, by Collier, Hudson, and Ford due to the construction of the Grand Coulee Dam and its reservoir (Lake Roosevelt), and they were accessioned by the museum in 1940 (EWSHS Accession #1027). The 110 unassociated funerary objects are 1 copper bracelet, 20 projectile points, 6 bone combs, 1 bone implement, 1 bone spearpoint, 2 bone whistles, 27 bone awls, 2 copper and shell pendants, 1 spear point, 1 carved stone pipe, 1 jadeite celt, 1 jadeite adze, 2 bone ornaments (possible combs), 1 bone flute fragment, 1 coiled basket, 1 turquoise pendant, 1 dentalia, 2 abalone pendants, 3 glass beads, 2 arrow shaft smoothers, 1 chalcedony drill, and 32 olivella beads.

In the Federal Register (75 FR 58424-58425, September 24, 2010), paragraph ten is corrected by substituting the following paragraphs:

Determinations of the Northwest Museum of Arts & Culture

Officials of the Northwest Museum of Arts & Culture have determined that:

• Pursuant to 25 U.S.C. 3001(3)(B), the 374 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Confederated Tribes of the Colville Indian Reservation, Washington.

Additional Requestors and Disposition

Representatives of any other Indian tribe that believes itself to be culturally affiliated with the unassociated funerary objects should contact Mr. Michael Holloman, Northwest Museum of Arts & Culture, 2316 W. First Avenue, Spokane, WA 99201, (509) 363-5337, before May 31, 2012. Repatriation of the unassociated funerary objects to the Confederated Tribes of the Colville Indian Reservation, Washington, may proceed after that date if no additional claimants come forward.

The Northwest Museum of Arts & Culture is responsible for notifying the Confederated Tribes of the Colville Indian Reservation, Washington, that this notice has been published.

Dated: April 26, 2012.
David Tarler,
Acting Manager, National NAGPRA Program.

[FR Doc. 2012-10486 Filed 4-30-12; 8:45 am]

BILLING CODE 4312-50-P